DEPARTMENT OF HEALTH AND HUMAN SERVICES

Centers for Disease Control and Prevention

[Program Announcement 03016]

Notice of Availability of Funds; Cooperative Agreement for a National Information Center on Physical Activity for Persons With Disabilities

A. Authority and Catalog of Federal Domestic Assistance Number

This program is authorized under Section 301(a) and 317(C) of the Public Health Service Act, [42 U.S.C. Section 241 and 247b-4, as amended]. The Catalog of Federal Domestic Assistance number is 93.184.

B. Purpose

The Centers for Disease Control and Prevention (CDC) announces the availability of fiscal year (FY) 2003 funds for a cooperative agreement program for operation of a National Information and Resource Center on Physical Activity for Persons with Disabilities. This program addresses the “Healthy People 2010” focus areas of Disability and Secondary Conditions and Physical Activity and Fitness.

The purpose of this program is to provide information, technical assistance, and consultation on physical activity, exercise, and health promotion practices targeting persons with disabilities across all segments of the population. It includes addressing the prevention of secondary conditions in persons who have a disability by promoting and assessing the benefits of physical activity and exercise, reducing the risk for associated adverse health, promoting environmental access to physical activity and recreational facilities and services, and participation outcomes among persons who have a disabling condition.

Measurable outcomes of the program will be in alignment with the following performance goal for the National Center on Birth Defects and Developmental Disabilities (NCBDDD): monitor, characterize, and improve the health status of Americans with disabilities.

C. Eligible Applicants

Applications may be submitted by public and private nonprofit organizations and by governments and their agencies; this includes, but is not limited to, universities, colleges, technical schools, research institutions, hospitals, community-based organizations, faith-based organizations, and State and local governments or their bona fide agents, including the District of Columbia, the Commonwealth of Puerto Rico, the Virgin Islands, the Commonwealth of the Northern Mariana Islands, American Samoa, Guam, the Federated States of Micronesia, the Republic of Palau, federally recognized Indian tribal governments, Indian tribes, or Indian tribal organizations.

Note: Title 2 of the United States Code section 1611 states that an organization described in section 501(c)(4) of the Internal Revenue Code that engages in lobbying activities is not eligible to receive Federal funds constituting an award, grant or loan.

D. Funding

Availability of Funds

Approximately $750,000 is available in FY 2003 to fund one award. It is expected that the award will begin on or about April 1, 2003, and will be made for a 12 month budget period within a project period of up to five years. Funding estimates may change.

Continuation awards within an approved project period will be made on the basis of satisfactory progress as evidenced by required reports and the availability of funds.

Use of Funds

Grant funds may be used to support personnel services, supplies, equipment, travel, subcontracts, and other services consistent with the approved scope of work.

Project funds may not be used to supplant other available applicant or collaborating agency funds, for construction, for purchase of facilities or space, or for patient care. Project funds may not be used for group, program, or individualized support such as wheelchairs, sport/ recreational and fitness equipment, assistive technology, and medical appliances unless specifically approved by the funding agency.

Recipient Financial Participation

Matching funds are not required for this program.

E. Program Requirements

In conducting activities to achieve the purpose of this program, the recipient will be responsible for the activities listed under 1. Recipient Activities, and CDC will be responsible for the activities listed under 2. CDC Activities.

1. Recipient Activities

a. Collect and compile information regarding physical activity and exercise for persons with disabilities on a national, regional, and state/local basis. Provide this information to a broad range of requesters, including: Individuals, media, researchers, disability service organizations, community groups, service providers, legislative and governing bodies, and the public.

b. Serve as a leading national organization that sustains a capacity and competency to serve a nationwide constituency on physical activity, exercise, and fitness for persons with a wide range of disabilities and their support networks, including caregivers.

c. Identify, enumerate, and characterize the nature of requests and inquiries from persons with disabilities, caregivers, providers, and organizations seeking information on physical activity and exercise.

d. Provide guidance for initiating and maintaining physical activity among persons with disabilities. Impart information regarding the benefits and recommended amounts of physical activity to individuals and to those populations served by requesting organizations.

e. Provide technical assistance and consultation in the design, conduct, and evaluation of health promotion and community-directed physical activity and exercise programs in targeted populations of persons with disabilities.

f. Organize and conduct symposia and conferences to publicize and promote the benefits of physical activity and fitness for national organizations and constituent groups.

g. Provide information regarding innovative and acceptable physical activity facilities (e.g. buildings, parks, trails, equipment, new technology), best practices, and model programs that are fully accessible and available to persons with disabilities with attention to geographical proximity and cost issues.

h. Provide information regarding innovative and acceptable policies that promote physical activity among people with disabilities through accessible and suitable dissemination formats and instruments.

2. CDC Activities

a. Provide technical consultation on current available and emerging research, literature, epidemiological, and physical activity information in the United States.

b. Serve as a conduit for accessing other data sets and for referrals to information resources that would be of value to the information gathering/dissemination and technical assistance activities of the recipient.

c. Assist in the planning and organizing of conferences and workshops related to project activities regarding physical activity, exercise, and fitness for persons with disabilities.

d. Assist in the development and dissemination of physical activity materials and information to other CDC grantees to maximize use among those populations served.

e. Assist in the transfer of information and methods already developed in the project to other disability-related entities and programs, including environmental measures that can serve to facilitate access to physical activity programs in the community setting.

f. Assist with the identification of physical activity policies, best practices, and model programs for people with disabilities.

F. Content

Letter of Intent

A letter of intent (LOI) is requested for this program. The LOI should identify the program announcement number and the proposed project director. It should describe the scope of the proposed project and denote those activities and collaborations already in place to fully meet the requirements of the announcement. The LOI will be used to determine the level of interest in the announcement, and to assist CDC in planning the application review process.

Applications

The Program Announcement title and number must appear in the application. Use the information in the Program Requirements, Other Requirements, and Evaluation Criteria to develop the application content. Your application will be evaluated on the criteria listed, so it is important to follow them in laying out your program plan. The narrative should be no more than 40 pages, double spaced, printed on one side, with one inch margins and unreduced 12-point font. Attachments are permitted, but should be consistent and compatible with the scope of the tasks described and descriptive of those operational systems that are to be the foundation for the project.

The narrative should consist of, at a minimum, a Plan, Objectives, Evaluation, and Budget.

Applicants must submit a separate typed abstract of their proposal consisting of no more than two single-spaced pages. Applicants should also include a table of contents for the project narrative and related attachments.

G. Submission and Deadline

LOI

On or before December 23, 2002, submit the LOI to the Senior Project Officer identified in Section “J. Where to Obtain Additional Information” of this announcement.

Application Forms

Submit the original and two copies of PHS-5161-1 (OMB Number 0920-0428). Forms can be found at the following Internet address: http://www.cdc.gov/od/pgo/forminfo.htm.

If you do not have access to the Internet, or if you have difficulty accessing the forms on-line, you may contact the CDC Procurement and Grants Office Technical Information Management Section (PGO-TIM) at 770-488-2700. Application forms can be mailed to you.

Application Submission Date, Time, and Address

The application must be received by 4 p.m. Eastern Time, January 16, 2003. Submit the application to: Technical Information Management Section—PA 03016, CDC Procurement and Grants Office, 2920 Brandywine Road, Room 3000, MS-E13, Atlanta, Georgia 30341-4146.

Forms may not be submitted electronically.

CDC Acknowledgment of Application Receipt

A postcard will be mailed by PGO-TIM, notifying you that CDC has received your application.

Deadline

Letters of intent and applications will be considered as meeting the deadline if they are received before 4 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be returned. Applicants will be notified of their failure to meet the submission requirements.

H. Evaluation Criteria

Applicants are required to provide measures of effectiveness that will demonstrate the accomplishment of the various identified objectives of the cooperative agreement.

Measures of effectiveness must relate to the performance goal stated in section “B. Purpose” of this announcement. Measures must be objective and quantitative and must measure the intended outcome. These measures of effectiveness shall be submitted with the application and shall be an element of evaluation.

Each application will be evaluated individually against the following criteria by an independent review group appointed by CDC. It is suggested that applications be organized to be compatible with the evaluation scoring criteria, as that is the process by which the review committee will assess the quality of the applications.

1. Operational Approach (30 Points). This includes:

a. The methods to be employed to sustain an effective information resources system and communications network.

b. The approach to: continue to gather information on the determinants (facilitators and barriers) to physical activity and exercise; assess the perceptions and experiences of persons with disabilities and their families regarding physical activity; formulate a strategy to enable and motivate persons with disabilities to engage in physical activity, exercise, and recreational programs; and continue to promote and publish guidelines and recommendations for sustaining such activities over the long-term.

c. The methods by which the applicant has and will further develop and disseminate educational materials on facts, benefits, programs, policies, and motivational tools based on their value for promoting physical activity in persons with disabilities across the nation in all age ranges and literacy levels during medical treatment, rehabilitation, and in the home and community settings.

d. The approach in place and proposed to expand the construction of a centralized listing of programs, events, and service providers to be disseminated to requesters for personal, organizational, and constituency use.

e. The accounts of the expansion of resource development and communications capacity for employing information technology to reach key targeted groups including impairment-specific populations; children; adolescents; older citizens; women; minorities; lower socio-economic strata; professionals/clinicians, fitness/allied health providers and educators/trainers; persons with varying fitness levels; and changing levels (persons with improving or regressing physical conditioning) in order to best translate information into physical activity and exercise programs and protocols for persons with disabilities.

f. The description of how the applicant has and will continue to develop and implement appropriate readability levels, cultural sensitivity, and fully accessible formats in all communication and program activities.

g. The methods by which the applicant has and will provide technical assistance, information, and consultation to participants and supporting organizations across the nation regarding the design, conduct, and evaluation of programs to introduce and sustain physical activity and exercise in persons with disabilities.

h. The degree to which the applicant presents evidence of work to date in addressing issues related to the barriers and facilitators (i.e., architectural, attitudinal, policies) to physical activity programs and facilities (e.g., trails, parks, fitness facilities, buildings, recreational camps), and with key entities (e.g. parks and recreation officials, health care providers, fitness professionals, municipal/city planners, construction managers, school, and citizens groups).

i. The extent to which the applicant adequately addresses the CDC policy requirements regarding the inclusion of women, ethnic, and racial groups in proposed research (as appropriate). This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

2. Capacity to Expand and Operate the Center (25 Points). This includes:

a. Documentation that the organizational mission includes providing resources and best practices in physical activity and health promotion to prevent secondary conditions to persons with disabilities, advocacy and disability service organizations, and entities providing physical activity programs in the community. This should be demonstrated by evidence of established and effective partnerships and information bases that complement this mission through constituencies across demographic groups of people with a wide range of disabling conditions.

b. Documentation that the applicant entity has in place recreational and physical activity or exercise modules that allow individuals with disabilities and practitioners to customize programs according to the individual's own disabling condition and unique needs. This should be demonstrated through presentation of evidence of the existence of such modules.

3. Project Goals and Objectives (20 Points). This includes:

a. The extent to which the management work plan for conducting the project is effective including the process (approach and methods) by which the applicant will meet established goals and objectives.

b. The quality of the presentation of specific goals, objectives and timelines, and how they will be accomplished (with detailed performance expectations for the first year by calendar month or quarter, and a work plan outline for the second and third years of the proposed five year project period).

c. The extent to which the applicant provides a clear vision and description of the achievements and technical innovations it will implement over time that will mark its resource capacity, national outreach, and impact by the close of the project period.

d. The description of the major tasks and responsibilities for key positions including the applicant organization and identified contractual/consultant personnel (include an organization chart and denote the relationship of this project within the applicant organization).

e. The methods by which the applicant has and will seek out, utilize, and benefit from input by persons with disabilities and their families, and from organizations representing the disability and physical activity communities in planning for project.

f. The description of remaining unmet needs and gaps (barriers and constraints) as they relate to advancing a coordinated and comprehensive information system on physical activity and exercise among persons with disabilities, and how this project would move toward elimination of those barriers through the proposed work plan.

4. Organizational Capacity (15 Points). This includes:

a. The capability of the applicant to conduct the project, taking into account its institutional experience, evidence of leadership, and current activities in the field for those activities required.

b. The ability of the applicant to ensure sustained timely access to necessary data and educational materials related to physical activity, denoting the sources for such data and materials.

c. The capacity of the applicant to document evidence of effective ongoing collaborations and linkages with the disability and physical activity fields, professional groups, service providers, fitness facilities, governmental agencies, and community organizations to meet all requirements of the project, including documented letters of support and commitment from those collaborating entities. These organizations include, but are not limited to: major disability advocacy and voluntary entities; organizations promoting use of parks, trails, and outdoor recreation; rehabilitation, fitness, and sports facilities and organizations; and other national information and resource centers such as the Christopher and Dana Reeve Paralysis Resource Center, the National Limb Loss Information Center, the Attention Deficit Hyperactivity Disorder Center, and the American Association on Health and Disability.

d. The capacity of the applicant to gather and assess necessary demographic and functional outcome information regarding sub-group patterns for engaging in physical activity and the benefits to be derived, including the kinds and sources of information to be accessed, analyzed, and publicized, the staff/organizations charged with its control, and how that data would be used.

5. Evaluation (10 points). The extent to which the applicant fully and adequately describes how it will demonstrate its effectiveness in meeting all objectives in the evaluation of its work plan; including staff performance, organizational outreach and collaborations; and all informational, referral, communications, and technical assistance activities.

6. Budget Justification—Not Scored. This criteria includes the adequacy of the budget justification and its relationship to program operations, collaborations, and services. Each line item of the budget must be justified in a narrative with special attention given to contractual requests including the responsibilities of consultants, percentage time equivalents, hourly or daily rates, etc. This section will also be evaluated on the adequacy of facilities to conduct the project. The budget narrative does not count against the maximum page limit for the full application.

7. Human Subjects—Not Scored.

This includes the extent to which the application adequately addresses the requirements of Title 45 CFR Part 46 for the protection of human subjects. If the proposed project involves research on human participants, assurance and evidence must be provided that the project will be subject to initial and continuous reviews by an appropriate institutional review board. Does the applicant adequately address the requirements of 45 CFR 46 for the protection of human subjects?

I. Other Requirements

Technical Reporting Requirements

Provide CDC with original plus two copies of:

1. Interim progress reports, no less than 90 days before the end of the budget period. The progress report will serve as your non-competing continuation application and must include the following elements:

a. Current budget period activities and objectives

b. Current budget period financial progress

c. New budget period proposed activities and objectives

d. Detailed line-item budget and justification

e. Report on estimated unobligated funds

f. Additional requested information

2. Financial status report, no more than 90 days after the end of the budget period

3. Final financial and performance reports, no more than 90 days after the end of the project period.

Send all reports to the Grants Management Specialist identified in Section “J. Where to Obtain Additional Information” of this announcement.

Additional Requirements

The following additional requirements are applicable to this program. For a complete description of each, see attachment I of the announcement as posted on the CDC Web site.

AR-1 Human Subjects Requirements

AR-2 Requirements for Inclusion of Women and Racial and Ethnic Minorities in Research

AR-9 Paperwork Reduction Act Requirements

AR-10 Smoke-Free Workplace Requirements

AR-11 Healthy People 2010

AR-12 Lobbying Restrictions

Executive Order 12372 does not apply to this program.

J. Where To Obtain Additional Information

This and other CDC announcements, the necessary applications, and associated forms can be found on the CDC Web site, Internet address: http://www.cdc.gov. Click on “Funding” then “Grants and Cooperative Agreements.”

For general questions about this announcement, contact: Technical Information Management Section, CDC Procurement and Grants Office, 2920 Brandywine Road, Room 3000, Atlanta, GA 30341-4146, Telephone: 770-488-2700.

For business management and budget assistance, contact: Sheryl Heard, Grants Management Specialist, Procurement and Grants Office, Centers for Disease Control and Prevention (CDC), 2920 Brandywine Road, Room 3000, Atlanta, Georgia, 30341-4146, Telephone (770) 488-272, E-mail address: slh3@cdc.gov.

For program technical assistance, contact: Joseph B. Smith, Senior Project Officer, National Center on Birth Defects and Developmental, Disabilities, Disability and Health Team, Centers for Disease Control and Prevention (CDC), 4770 Buford Highway (Mailstop F-35), Atlanta, Georgia 30341, Telephone (770)488-7082, E-mail address: jos4@cdc.gov.

Dated: November 20, 2002.
Edward Schultz,
Acting Director, Procurement and Grants Office, Centers for Disease Control and Prevention.

[FR Doc. 02-29953 Filed 11-25-02; 8:45 am]

BILLING CODE 4163-18-P